DEPARTMENT OF TRANSPORTATION

Federal Aviation Administration

Notice of Opportunity for Public Comment on Surplus Property Release at Moore County Airport, Pinehurst/Southern Pines, NC

AGENCY: Federal Aviation Administration (FAA), DOT.

ACTION: Notice.

SUMMARY: Under the provisions of Title 49, U.S.C. Section 47153(d), notice is being given that the FAA is considering a request from the Moore County Airport Authority to waive the requirement that a 27.7 acre parcel of surplus property, located at the Moore County Airport, be used for aeronautical purposes.

DATES: Comments must be received on or before February 12, 2010.

ADDRESSES: Comments on this notice may be mailed or delivered in triplicate to the FAA at the following address: Atlanta Airports District Office, 1701 Columbia Ave., Campus Building, Suite 2-260, College Park, GA 30337.

In addition, one copy of any comments submitted to the FAA must be mailed or delivered to Ms. Carol Thomas, Interim Airport Director at the following address: Airport Road, P.O. Drawer 5809, Pinehurst, NC 28374.

FOR FURTHER INFORMATION CONTACT: Rusty Nealis, Program Manager, Atlanta Airports District Office, 1701 Columbus Ave, Campus Bldg., Suite 2-260, College Park, GA 30337, (404) 305-7142. The application may be reviewed in person at this same location.

SUPPLEMENTARY INFORMATION: The FAA is reviewing a request by the Moore County Airport Authority to release 27.7 acres of surplus property at the Moore County Airport. The surplus property will be used as right-of-way for the newly constructed roadway associated with recent airport development.

Any person may inspect the request in person at the FAA office listed above under FOR FURTHER INFORMATION CONTACT.

In addition, any person may, upon request, inspect the request, notice and other documents germane to the request in person at the Moore County Airport, 7825 Aviation Drive, Carthage, NC 28327.

Issued in Atlanta, Georgia on January 4, 2010.
Scott L. Seritt,
Manager, Atlanta Airports District Office, Southern Region.

[FR Doc. 2010-397 Filed 1-12-10; 8:45 am]

BILLING CODE 4910-13-P